DEPARTMENT OF ENERGY

Federal Energy Regulatory Commission

[Docket No. RP01-218-000]

Texas Gas Transmission Corporation; Notice of Annual Cash-Out Report

February 6, 2001.

Take notice that on January 31, 2001, Texas Gas Transmission Corporation (Texas Gas) tendered for filing a report that compares its cash-out revenues with cash-out costs for the annual billing period November 1, 1999 through October 31, 2000.

Texas Gas states that the filing is being made in accordance with the Federal Energy Regulatory Commission's December 16, 1993, “Order on Third Compliance filing and Second Order on Rehearing” in Docket Nos. RS92-24, et al. There is no rate impact to customers as a result of this filing.

Texas Gas states that copies of this filing have been served upon all of Texas Gas's jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before February 13, 2001. Protests will be considered by the Commission in determining the appropriate action to be taken, but will not serve to make protestants parties to the proceedings. Any person wishing to become a party must file a motion to intervene. Copies of this filing are on file with the Commission and are available for public inspection in the Public Reference Room. This filling may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3432 Filed 2-9-01; 8:45 am]

BILLING CODE 6717-01-M